NUCLEAR REGULATORY COMMISSION

[Docket No. 72-16; NRC-2016-0177]

Virginia Electric and Power Company, Old Dominion Electric Cooperative, North Anna Power Station Independent Spent Fuel Storage Installation

AGENCY: Nuclear Regulatory Commission.

ACTION: License renewal; issuance.

SUMMARY: The U.S. Nuclear Regulatory Commission (NRC) has issued a renewed license to Virginia Electric and Power Company (Dominion Energy Virginia) and the Old Dominion Electric Cooperative (together “licensee”) for Special Nuclear Materials (SNM) License No. SNM-2507 for the receipt, possession, transfer, and storage of spent fuel from North Anna Power Station, Units 1 and 2, in the North Anna Independent Spent Fuel Storage Installation (ISFSI), located in Louisa County, Virginia. The renewed license authorizes operation of the North Anna ISFSI in accordance with the provisions of the renewed license and its technical specifications. The renewed license expires on June 30, 2058.

DATES: February 13, 2018.

ADDRESSES: Please refer to Docket ID NRC-2016-0177 when contacting the NRC about the availability of information regarding this document. You may obtain publicly-available information related to this document using any of the following methods:

• Federal Rulemaking website: Go to http://www.regulations.gov and search for Docket ID NRC-2016-0177. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. In addition, for the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Kristina L. Banovac, Office of Nuclear Material Safety and Safeguards, U.S. Nuclear Regulatory Commission, Washington, DC 20555-0001; telephone: 301-415-7116, email: Kristina.Banovac@nrc.gov.

SUPPLEMENTARY INFORMATION:

I. Discussion

Based upon the application dated May 25, 2016, as supplemented January 20, 2017, February 28, 2017, June 5, 2017, July 10, 2017, and August 16, 2017, the NRC has issued a renewed license to the licensee for the North Anna ISFSI, located in Louisa County, Virginia. The renewed license SNM-2507 authorizes and requires operation of the North Anna ISFSI in accordance with the provisions of the renewed license and its technical specifications. The renewed license will expire on June 30, 2058.

The licensee's application for a renewed license complies with the standards and requirements of the Atomic Energy Act of 1954, as amended (the Act), and the NRC's rules and regulations. The NRC has made appropriate findings as required by the Act and the NRC's regulations in chapter 1 of title 10 of the Code of Federal Regulations (10 CFR), and sets forth those findings in the renewed license. The agency afforded an opportunity for a hearing in the Notice of Opportunity for a Hearing published in the Federal Register on August 23, 2016 (81 FR 57629). The NRC received no request for a hearing or petition for leave to intervene following the notice.

The NRC staff prepared a safety evaluation report for the renewal of the ISFSI license and concluded, based on that evaluation, the ISFSI will continue to meet the regulations in 10 CFR part 72. The NRC staff also prepared an environmental assessment and finding of no significant impact for the renewal of this license, which were published on February 2, 2018 (83 FR 4932). The NRC staff's consideration of the impacts of continued storage of spent nuclear fuel (as documented in NUREG-2157, “Generic Environmental Impact Statement for Continued Storage of Spent Fuel”) was included in the environmental assessment. The NRC staff concluded that renewal of this ISFSI license will not have a significant impact on the quality of the human environment.

II. Availability of Documents

The following table includes the ADAMS accession numbers for the documents referenced in this notice. For additional information on accessing ADAMS, see the ADDRESSES section of this document.

Document | ADAMS accession No.
Licensee's application, dated May 25, 2016 | ML16153A140
Response to First Request for Additional Information, dated January 20, 2017 | ML17025A128
Response to Request for Referenced Information, dated February 28, 2017 | ML17065A248
Decommissioning Cost Estimate Information, dated June 5, 2017 | ML17160A300
Response to Second Request for Additional Information, dated July 10, 2017 | ML17198A023
Response to Second Request for Additional Information, Response to RAI 3-15, dated August 16, 2017 | ML17233A170
Special Nuclear Materials License No. SNM-2507 | ML18031A225
SNM-2507 Technical Specifications | ML18031A227
NRC Safety Evaluation Report | ML18031A228
NRC Environmental Assessment | ML17311A450
NUREG-2157, “Generic Environmental Impact Statement for Continued Storage of Spent Fuel” Vols. 1 and 2 | ML14196A105, ML14196A107

Dated at Rockville, Maryland, this 8th day of February, 2018.
For the Nuclear Regulatory Commission.
Hipolito J. Gonzalez,
Acting Chief, Renewals and Materials Branch, Division of Spent Fuel Management, Office of Nuclear Material Safety and Safeguards.

[FR Doc. 2018-02904 Filed 2-12-18; 8:45 am]

BILLING CODE 7590-01-P